ENVIRONMENTAL PROTECTION AGENCY

40 CFR Part 81

[Docket WA-00-01; FRL-6915-5]

Clean Air Act Reclassification; Wallula, Washington Particulate Matter (PM10) Nonattainment Area

AGENCY: Environmental Protection Agency (EPA or we).

ACTION: Proposed rule; reopening of comment period.

SUMMARY: EPA is reopening the public comment period on EPA's notice of proposed rulemaking “Clean Air Act Reclassification; Wallula, Washington Particulate Matter (PM10) Nonattainment Area,” published on November 16, 2000 at 65 FR 69275. The original comment period closed on December 1, 2000. The new comment period will begin today and end on December 27, 2000. EPA is also announcing that there will be an informational meeting to present an overview of the issues involved in the proposal and to provide an opportunity for the public to ask questions regarding the proposal.

DATES: All comments regarding EPA's proposed rulemaking published on November 16, 2000 must be received in writing on or before close of business on December 27, 2000.

ADDRESSES: Submit written comments to Donna Deneen, EPA, Region 10, Office of Air Quality (OAQ-107), 1200 Sixth Avenue, Seattle, Washington 98101. You may view documents supporting this action during normal business hours at the following location: EPA, Office of Air Quality (OAQ-107), 1200 Sixth Avenue, Seattle, Washington 98101.

FOR FURTHER INFORMATION CONTACT: Donna Deneen, EPA Region 10, Office of Air Quality, at (206) 553-6706.

SUPPLEMENTARY INFORMATION: On November 16, 2000, we solicited public comment on a proposal to find that the Wallula nonattainment area has not attained the National Ambient Air Quality Standards for particulate matter with an aerodynamic diameter of less than or equal to 10 microns (PM10) by the attainment date of December 31, 1997, as required by the Clean Air Act. If EPA takes final action on this proposal, the Wallula PM10 nonattainment area will be reclassified by operation of law as a serious PM10 nonattainment area. See 65 FR 69275. In the proposal, we stated that EPA would accept public comments on the proposal until December 1, 2000.

During the public comment period that ended December 1, 2000, numerous commenters asked for an extension of the public comment period. In light of the significant public interest in the proposal, as evidenced by the letters EPA has received to date, we are extending the public comment period to December 27, 2000, to provide additional time for interested parties to submit written comments. All written comments received by EPA by December 27, 2000, will be considered in our final action.

In addition, based on the strong public interest in the proposal, there will be an informational meeting regarding the proposal. The meeting, which has not yet been scheduled, will provide an opportunity for EPA to explain to the community the basis for its proposal and an opportunity for the community to ask questions of EPA. Comments on the proposal must be submitted in writing to the EPA address listed above on or before December 27th, 2000. There will also be an opportunity to submit written comments at the informational meeting. The time, date, and location of the informational meeting will be announced in local newspapers.

List of Subjects in 40 CFR Part 81

Environmental protection, Air pollution control, Intergovernmental relations, Particulate matter.

Dated: December 4, 2000.
Randall F. Smith,
Acting Regional Administrator, Region 10.

[FR Doc. 00-31615 Filed 12-11-00; 8:45 am]

BILLING CODE 6560-50-P